DEPARTMENT OF COMMERCE

Foreign-Trade Zones Board

[Order No. 1889]

Approval for Export-Only Manufacturing Authority, Foreign-Trade Zone 203, SGL Automotive Carbon Fibers, LLC, (Carbon Fiber Manufacturing), Moses Lake, Washington

Pursuant to its authority under the Foreign-Trade Zones Act of June 18, 1934, as amended (19 U.S.C. 81a-81u), the Foreign-Trade Zones Board (the Board) adopts the following Order:

Whereas, the, grantee of Foreign-Trade Zone 203, has requested export-only manufacturing authority on behalf of SGL Automotive Carbon Fibers, LLC, within FTZ 203-Site 3, in Moses Lake, Washington (FTZ Docket 4-2011, filed January 4, 2011);

Whereas, notice inviting public comment has been given in the Federal Register (76 FR 1599, 1/11/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application for export-only manufacturing authority under zone procedures within FTZ 203-Site 3, on behalf of SGL Automotive Carbon Fibers, LLC, as described in the application and Federal Register notice, is approved, subject to the FTZ Act and the Board's regulations, including Section 400.13.

Signed at Washington, DC, this 5th day of March 2013.
Paul Piquado,
Assistant Secretary of Commerce for Import Administration, Alternate Chairman, Foreign-Trade Zones Board.
Andrew McGilvray,
Executive Secretary.

[FR Doc. 2013-05788 Filed 3-13-13; 8:45 am]

BILLING CODE P